ENVIRONMENTAL PROTECTION AGENCY

[EPA-HQ-OPPT-2014-0516; FRL-9915-77]

Announcement of a Workshop on Ecotoxicity Testing of Difficult-to-Test Substances in the Aquatic Environment; Evaluation and Testing of Poorly Water Soluble Substances

AGENCY: Environmental Protection Agency (EPA).

ACTION: Notice.

SUMMARY: EPA is holding a workshop entitled, “Ecotoxicity Testing of Difficult-to-Test Substances in the Aquatic Environment: Evaluation and Testing of Poorly Water Soluble Substances,” on September 10-11, 2014. The objective of this workshop is to better understand the state of the science for evaluating chemical substances which are difficult-to-test in aquatic test systems. The workshop will include a limited number of invited experts and observers, and will also provide web connection and teleconference capabilities for others to participate remotely. Due to space limitations, the Agency anticipates that approximately 50 invited experts and 40 observers will be able to attend the workshop in person. EPA invites the public to register to attend the meetings as observers and to provide comments during the meeting as discussed in this notice.

DATES: The meeting will be held on Wednesday, September 10, 2014, from 8:30 a.m. to 5 p.m., EDT, and Thursday, September 11, 2014, from 8:30 a.m. to 12:30 p.m., EDT.

Meeting registration: To participate in this workshop, you must register no later than 11:59 p.m., e.d.t., on Friday, September 5, 2014. See Unit III. in SUPPLEMENTARY INFORMATION.

ADDRESSES: The meeting will be held at the Environmental Protection Agency, Potomac Yards South, Rm. S-1204-06, 2777 Crystal Dr., Arlington, VA 22202. The meeting will also be available via Web connect and teleconferencing. See Unit III.C. in SUPPLEMENTARY INFORMATION.

FOR FURTHER INFORMATION CONTACT: For technical information contact: Louis Scarano, Risk Assessment Division (7403M), Office of Pollution Prevention and Toxics, Environmental Protection Agency, 1200 Pennsylvania Ave. NW., Washington, DC 20460-0001; telephone number (202) 564-2851; email address: scarano.louis@epa.gov.

For workshop registration contact: Eileen White, Risk Assessment Division (7403M), Office of Pollution Prevention and Toxics, Environmental Protection Agency, 1200 Pennsylvania Ave. NW., Washington, DC 20460-0001; telephone number (202) 564-8903; email address: white.eileen@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general, and may be of interest to a wide range of stakeholders including those interested in environmental assessment, the chemical industry, chemical users, consumer product companies, and members of the public interested in the assessment of chemical risks. Since others also may be interested, the Agency has not attempted to describe all the specific entities that may be affected by this action.

B. How can I get copies of this document and other related information?

The docket for this action, identified by docket identification (ID) number EPA-HQ-OPPT-2014-0516, is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. Background

The objective of this workshop is to better understand the state of the science for evaluating chemical substances which are difficult-to-test in aquatic test systems. Such chemical substances include, for example, those that have very low water solubility, high volatility, and that are difficult to measure/quantify in aquatic solutions. As a workshop, the primary participants will be invited based on their expertise in aquatic toxicity testing and risk assessment; however, the meeting will be open to the public and observers will be encouraged to attend and will have an opportunity to contribute to the workshop. Members of the public may register to attend and participate in the workshop as observers (see Unit III.).

III. How can I request to participate in these meetings?

A. Registration

Members of the public may register to attend the workshop as observers, or register to speak, if planning to offer oral comments during the workshop. To attend the workshop as an observer or to register to speak, you must register for the meeting no later than 11:59 p.m., EDT, on Friday, September 5, 2014, by either sending an email to Eileen White (white.eileen@epa.gov) or through the U.S. Postal Service or by overnight/priority mail. When registering provide the following information: Name, address, affiliation, and contact information (email and telephone number). If you register to speak, you must also indicate if you have any special requirements related to your oral comments (e.g., translation).

Because there will be no on-site registration, members of the public who do not register by the deadline using one of the methods described in this notice may not be able to attend in person; seating will be on a first-come, first-serve basis for observers who have registered for on-site attendance.

B. Draft Agenda and Topics for the Meeting

A copy of a draft agenda is provided in the docket under docket ID number EPA-HQ-OPPT-2014-0516. Members of the public are invited to review and comment during the public comment period at the meeting on the following topics for the one-and-a-half day workshop:

1. What characterizes a substance as being difficult-to-test in aquatic systems (i.e., physical/chemical properties, presence of impurities, etc.)?

2. After a substance is released into the environment, what determines its distribution in the environment? How should this information be used to determine which environmental medium/organism should be tested?

3. What are the advantages and disadvantages of current test methods and approaches for poorly water soluble substances?

• Water accommodated fraction (WAF) methodology.

• Use of solvents.

• Role of Static/Semi-static/Continuous flow-through systems.

4. How can current test methods be changed, or, are there new methods available to better test the toxicity of difficult-to-test substances in the aquatic ecosystem?

C. Web Meeting Access

The workshop will be held via Web connect and teleconferencing for those interested. All registered participants will receive information on how to connect to the workshop prior to its start.

List of Subjects

Environmental protection, Aquatic toxicity, Business and industry, Chemicals, Ecotoxicity, Health and safety, Industrial chemicals, Unknown or Variable Compositions, Complex Reaction Products and Biological Materials (UVCBs), Water.

Dated: August 22, 2014.
Wendy C. Hamnett,
Director, Office of Pollution Prevention and Toxics.

[FR Doc. 2014-20500 Filed 8-27-14; 8:45 am]

BILLING CODE 6560-50-P